DEPARTMENT OF THE TREASURY

Office of Foreign Assets Control

Unblocking of Specially Designated Nationals and Blocked Persons Pursuant to Executive Order 12978

AGENCY: Office of Foreign Assets Control, Treasury.

ACTION: Notice.

SUMMARY: The Department of the Treasury's Office of Foreign Assets Control (“OFAC”) is publishing the names of seven individuals and three entities whose property and interests in property have been unblocked pursuant to Executive Order 12978 of October 21, 1995, “Blocking Assets and Prohibiting Transactions With Significant Narcotics Traffickers”.

DATES: The unblocking and removal from the list of Specially Designated Nationals and Blocked Persons (“SDN List”) of seven individuals and three entities identified in this notice whose property and interests in property were blocked pursuant to Executive Order 12978 of October 21, 1995, is effective on September 26, 2013.

FOR FURTHER INFORMATION CONTACT: Assistant Director, Sanctions Compliance & Evaluation, Department of the Treasury, Office of Foreign Assets Control, Washington, DC 20220, Tel: (202) 622-2490.

SUPPLEMENTARY INFORMATION:

Electronic and Facsimile Availability

This document and additional information concerning OFAC are available from OFAC's Web site (www.treasury.gov/ofac) or via facsimile through a 24-hour fax-on demand service at (202) 622-0077.

Background

On October 21, 1995, the President, invoking the authority, inter alia, of the International Emergency Economic Powers Act (50 U.S.C. §§ 1701-1706) (“IEEPA”), issued Executive Order 12978 (60 Fed. Reg. 54579, October 24, 1995) (the “Order”). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) the foreign persons listed in an Annex to the Order; (2) any foreign person determined by the Secretary of Treasury, in consultation with the Attorney General and the Secretary of State: (a) to play a significant role in international narcotics trafficking centered in Colombia; or (b) to materially assist in, or provide financial or technological support for or goods or services in support of, the narcotics trafficking activities of persons designated in or pursuant to the Order; and (3) persons determined by the Secretary of the Treasury, in consultation with the Attorney General and the Secretary of State, to be owned or controlled by, or to act for or on behalf of, persons designated pursuant to the Order.

On September 26, 2013, the Director of OFAC removed from the SDN List seven individuals and three entities listed below, whose property and interests in property were blocked pursuant to the Order:

Individuals:

1. CEDENO HERRERA, Luis Mario, c/o COMPANIA AGROPECUARIA DEL SUR LTDA., Bogota, Colombia; c/o INVERSIONES AGROINDUSTRIALES DEL OCCIDENTE LTDA., Bogota, Colombia; c/o AGROPECUARIA LINDARAJA S.A., Cali, Colombia; c/o INVERSIONES BRASILAR S.A., Bogota, Colombia; nationality Colombia; citizen Colombia; Cedula No. 16637213 (Colombia) (individual) [SDNT].

2. GONZALEZ SANCLEMENTE, Alejandro, c/o IMERCO LTDA., San Pedro, Valle, Colombia; DOB 26 Feb 1960; POB Buga, Valle, Colombia; Cedula No. 14882775 (Colombia) (individual) [SDNT].

3. GONZALEZ SANCLEMENTE, Fernando, Colombia; DOB 16 Jul 1963; Cedula No. 14884862 (Colombia) (individual) [SDNT].

4. GONZALEZ SANCLEMENTE, Jose Alberto, c/o AGROINDUSTRIAS JORDANES S.A., Cali, Colombia; c/o FEGO CANA E.U., Cali, Colombia; c/o IMERCO LTDA., San Pedro, Valle, Colombia; DOB 10 Sep 1971; alt. DOB 09 Oct 1971; POB Buga, Valle, Colombia; Cedula No. 14894820 (Colombia) (individual) [SDNT].

5. RODRIGUEZ OREJUELA DE GIL, Amparo; DOB 13 Mar 1949; Cedula No. 31218703 (Colombia); Passport AC342062 (Colombia) (individual) [SDNT] (Linked To: LABORATORIOS BLAIMAR DE COLOMBIA S.A.; Linked To: DISTRIBUIDORA MIGIL LTDA.; Linked To: DEPOSITO POPULAR DE DROGAS S.A.; Linked To: LABORATORIOS KRESSFOR DE COLOMBIA S.A.; Linked To: LABORATORIOS BLANCO PHARMA S.A.; Linked To: RADIO UNIDAS FM S.A.; Linked To: DISTRIBUIDORA DE DROGAS CONDOR LTDA.; Linked To: D'CACHE S.A.; Linked To: LABORATORIOS Y COMERCIALIZADORA DE MEDICAMENTOS DROBLAM S.A.; Linked To: AQUILEA S.A.).

Entities:

1. AGROINDUSTRIAS JORDANES S.A. (a.k.a. JORDANES PARRILLA ARGENTINA), Calle 8 No. 25-46, Cali, Colombia; Calle 9A Norte No. 4N-23, Oficina 101E, Cali, Colombia; Calle 18N No. 9-07, Cali, Colombia; Carrera 98 No. 16-200, Local R6, Cali, Colombia; Carrera 105 Calle 15D, Loc. 5 y 6, Cali, Colombia; NIT #900092924-9 (Colombia) [SDNT].

2. FEGO CANA E.U., Calle 11A No. 116-40 Casa 3, Cali, Colombia; NIT #830500953-0 (Colombia); Matricula Mercantil No 680975-15 (Colombia) [SDNT].

3. IMERCO LTDA., Calle Ruta Buga—Tulua 4 Kilometros despues de San Pedro, San Pedro, Valle, Colombia; NIT #810004154-2 (Colombia) [SDNT].

Dated: September 26, 2013.
Barbara Hammerle,
Acting Director, Office of Foreign Assets Control.

[FR Doc. 2013-24130 Filed 10-21-13; 8:45 am]

BILLING CODE 4810-AL-P